DEPARTMENT OF LABOR

Employment and Training Administration

[TA-W-73.164]

General Motors Corporation, Renaissance Center, Including On-Site Leased Workers From Accretive Solutions, Detroit, Inc., Acro Service Corporation, Aerotek, Inc., Ajilon Consulting, Altair Engineering, Inc., Aquent LLC, Global Technology Associates, Ltd, JDM Systems Consultants, Inc., Kelly Service, Inc., Populus Group, Teksystems, and Compuware Corporation, Detroit, MI; Amended Certification Regarding Eligibility To Apply for Worker Adjustment Assistance

In accordance with Section 223 of the Trade Act of 1974, as amended (“Act”), 19 U.S.C. 2273, the Department of Labor issued a Certification of Eligibility to Apply for Worker Adjustment Assistance on April 23, 2010, applicable to workers of General Motors Corporation, Renaissance Center, including on-site leased workers from Accretive Solutions, Detroit, Inc., Acro Service Corporation, Aerotek, Inc., Ajilon Consulting, Altair Engineering, Inc., Aquent LLC, Global Technology Associates, Ltd., JDM Systems Consultants, Inc., Kelly Service, Inc., Populus Group, TEKsystems, Detroit, Michigan. The notice was published in the Federal Register on May 20, 2010 (75 FR 28299).

At the request of the State agency, the Department reviewed the certification for workers of the subject firm. The workers support production of automobiles.

New information shows that workers leased from Compuware Corporation were employed on-site at the Detroit, Michigan location of General Motors Corporation, Renaissance Center.

The Department has determined that on-site workers from Compuware Corporation were sufficiently under the control of the subject firm to be covered by this certification.

Based on these findings, the Department is amending this certification to include workers from Compuware Corporation working on-site at the Detroit, Michigan location of General Motors Corporation, Renaissance Center.

The amended notice applicable to TA-W-73,164 is hereby issued as follows:

All workers of General Motors Corporation, Renaissance Center, including on-site leased workers from Accretive Solutions, Detroit, Inc., Acro Service Corporation, Aerotek, Inc., Ajilon Consulting, Altair Engineering, Inc., Aquent LLC, Global Technology Associates, Ltd., JDM Systems Consultants, Inc., Kelly Service, Inc., Populus Group, TEKsystems, and Compuware Corporation, Detroit, Michigan, who became totally or partially separated from employment on or after December 18, 2008 through April 23, 2012, and all workers in the group threatened with total or partial separation from employment on date of certification through two years from the date of certification, are eligible to apply for adjustment assistance under Chapter 2 of Title II of the Trade Act of 1974, as amended.

Signed at Washington, DC, this 31st day of August 2010.
Del Min Amy Chen,
Certifying Officer, Division of Trade Adjustment Assistance.

[FR Doc. 2010-22723 Filed 9-10-10; 8:45 am]

BILLING CODE 4510-FN-P